DEPARTMENT OF LABOR

Employment and Training Administration

[TA-W-57,885]

Pliana, Inc., A Division Of Pliana, S.A. De C.V.; Charlotte, NC; Notice of Termination of Investigation

Pursuant to section 221 of the Trade Act of 1974, as amended, an investigation was initiated on September 2, 2005 in response to a worker petition filed a company official on behalf of workers at Pliana, Inc., a division of Pliana, S.A. de C.V., Charlotte, North Carolina.

The petitioner has requested that the petition be withdrawn. Consequently, the investigation has been terminated.

Signed at Washington, DC, this 12th day of October 2005.
Richard Church
Certifying Officer, Division of Trade Adjustment Assistance.

[FR Doc. E5-6006 Filed 10-28-05; 8:45 am]

BILLING CODE 4510-30-P